DEPARTMENT OF INTERIOR

Bureau of Land Management

[LLCO956000 L14200000.BJ0000]

Notice of Filing of Plats

AGENCY: Bureau of Land Management, Interior.

ACTION: Notice of filing of plats; Colorado.

SUMMARY: The Bureau of Land Management (BLM) Colorado State Office is publishing this notice to inform the public of the filing of the land survey plats listed below.

DATES: The plats described in this notice were filed on April 13 and 18, 2012.

ADDRESSES: BLM Colorado State Office, Cadastral Survey, 2850 Youngfield Street, Lakewood, Colorado 80215-7093.

FOR FURTHER INFORMATION CONTACT: Randy Bloom, Chief Cadastral Surveyor for Colorado, (303) 239-3856.

SUPPLEMENTARY INFORMATION: The supplemental plat of Section 1, in Township 13 South, Range 92 West, Sixth Principal Meridian, Colorado, was accepted and filed on April 13, 2012.

The supplemental plat of Section 31, in Township 5 North, Range 86 West, Sixth Principal Meridian, Colorado, was accepted and filed on April 18, 2012.

The supplemental plat in Township 5 North, Range 87 West, Sixth Principal Meridian, Colorado, was accepted and filed on April 18, 2012.

Randy Bloom,
Chief Cadastral Surveyor for Colorado.

[FR Doc. 2012-12372 Filed 5-21-12; 8:45 am]

BILLING CODE 4310-JB-P